DEPARTMENT OF TRANSPORTATION

Federal Aviation Administration

14 CFR Part 39

[Docket No. FAA-2006-24367; Directorate Identifier 2006-NM-041-AD; Amendment 39-14677; AD 2006-14-06]

RIN 2120-AA64

Airworthiness Directives; Airbus Model A300 F4-600R Series Airplanes and Model A300 C4-605R Variant F Airplanes

AGENCY: Federal Aviation Administration (FAA), Department of Transportation (DOT).

ACTION: Final rule.

SUMMARY: The FAA is adopting a new airworthiness directive (AD) for certain Airbus Model A300 F4-600R series airplanes and Model A300 C4-605R Variant F airplanes. This AD requires modifying certain structure in the fuselage zone at the lavatory venturi installation in the nose section, and performing a related investigative action and corrective action if necessary. This AD results from an analysis that revealed that airplanes equipped with Airbus Modification 08909 had a concentration of loads higher than expected in the fuselage zone (high stress) at the lavatory venturi installation in the nose section, which could be the origin of cracks that developed in the fuselage skin and propagated from the edge of the air vent hole. We are issuing this AD to prevent fatigue cracking of the fuselage skin, which could result in loss of the structural integrity of the fuselage and consequent rapid depressurization of the airplane.

DATES: This AD becomes effective August 11, 2006.

The Director of the Federal Register approved the incorporation by reference of a certain publication listed in the AD as of August 11, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, International Branch, ANM-116, Transport Airplane Directorate, FAA, 1601 Lind Avenue, SW., Renton, Washington 98055-4056; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A300 F4-600R series airplanes and Model A300 C4-605R Variant F airplanes. That NPRM was published in the Federal Register on April 11, 2006 (71 FR 18237). That NPRM proposed to require modifying certain structure in the fuselage zone at the lavatory venturi installation in the nose section, and performing a related investigative action and corrective action if necessary.

Comments

We provided the public the opportunity to participate in the development of this AD. We have considered the single comment received.

Request To Add Revised Service Information

The manufacturer, Airbus, advises that the service bulletin specified in the NPRM has been revised. Airbus notes that Airbus Service Bulletin A300-53-6151, Revision 01, dated April 21, 2006, contains minor changes and that no additional work is required.

We agree with Airbus. We have reviewed Revision 01 of the service bulletin and agree that it does not necessitate additional work. We have revised paragraphs (f) and (g) of the AD to reflect the revised service bulletin. In addition, we have added a new paragraph (h) to this AD specifying that accomplishment of the actions specified in paragraph (f) of the AD in accordance with the original issue of the service bulletin is considered to be an acceptable method of compliance. Subsequent paragraphs of the AD have been re-identified accordingly.

Revision 01 also includes a reduced cost for parts and we have revised the Costs of Compliance section of the AD to reflect that reduced cost.

Explanation of Change to This Final Rule

Paragraph (g) of the NPRM specifies making repairs using a method approved by either the FAA or the Direction Générale de l'Aviation Civile (or its delegated agent). The European Aviation Safety Agency (EASA) has assumed responsibility for the airplane models subject to this AD. Therefore, we have revised paragraph (g) of this AD to specify making repairs using a method approved by either the FAA or the EASA (or its delegated agent).

Conclusion

We have carefully reviewed the available data, including the comment received, and determined that air safety and the public interest require adopting the AD with the changes described previously. These changes will neither increase the economic burden on any operator nor increase the scope of the AD.

Costs of Compliance

This AD affects about 86 airplanes of U.S. registry. The modification (including the inspection) takes about 28 work hours per airplane, at an average labor rate of $80 per work hour. Required parts cost about $399 per airplane. Based on these figures, the estimated cost of the AD for U.S. operators is $226,954, or $2,639 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-14-06 Airbus: Amendment 39-14677. Docket No. FAA-2006-24367; Directorate Identifier 2006-NM-041-AD.

Effective Date

(a) This AD becomes effective August 11, 2006.

Affected ADs

(b) None.

Applicability

(c) This AD applies to Airbus Model A300 F4-605R and F4-622R airplanes and Model A300 C4-605R Variant F airplanes, certificated in any category; on which Airbus Modification 08909 has been done in production; except airplanes on which Airbus Modification 12980 has been done in production.

Unsafe Condition

(d) This AD results from an analysis that revealed that airplanes equipped with Airbus Modification 08909 had a concentration of loads higher than expected in the fuselage zone (high stress) at the lavatory venturi installation in the nose section, which could be the origin of cracks that developed in the fuselage skin and propagated from the edge of the air vent hole. We are issuing this AD to prevent fatigue cracking of the fuselage skin, which could result in loss of the structural integrity of the fuselage and consequent rapid depressurization of the airplane.

Compliance

(e) You are responsible for having the actions required by this AD performed within the compliance times specified, unless the actions have already been done.

Modification/Investigative Action

(f) Before the accumulation of 16,900 total flight cycles since first flight of the airplane: Modify the fuselage zone at the lavatory venturi installation area between frame (FR) 12 and FR 12A on the left-hand side of the nose section and do the related investigative action by accomplishing all the actions specified in the Accomplishment Instructions of Airbus Service Bulletin A300-53-6151, Revision 01, dated April 21, 2006.

Corrective Action

(g) If any crack is found during the inspection required by this AD and Airbus Service Bulletin A300-53-6151, Revision 01, dated April 21, 2006, specifies to contact Airbus for crack repair: Before further flight, repair the crack using a method approved by either the Manager, International Branch, ANM-116, Transport Airplane Directorate, FAA; or the European Aviation Safety Agency (or its delegated agent).

Acceptable for Compliance

(h) Accomplishment of the actions required by paragraph (f) of this AD before the effective date of this AD in accordance with Airbus Service Bulletin A300-53-6151, dated December 2, 2005, is acceptable for compliance with the requirements of paragraph (f) of this AD.

Alternative Methods of Compliance (AMOCs)

(i)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) French airworthiness directive F-2006-030, dated February 1, 2006, also addresses the subject of this AD.

Material Incorporated by Reference

(k) You must use Airbus Service Bulletin A300-53-6151, Revision 01, dated April 21, 2006, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on June 28, 2006.
Kalene C. Yanamura,
Acting Manager, Transport Airplane Directorate, Aircraft Certification Service.

[FR Doc. 06-6003 Filed 7-6-06; 8:45 am]

BILLING CODE 4910-13-P